DEPARTMENT OF TRANSPORTATION

Federal Aviation Administration

Notice of Intent to Rule on Request To Release Airport Property at the Colorado Air and Space Port, Watkins, Colorado

AGENCY: Federal Aviation Administration, (FAA), DOT.

ACTION: Notice of request to release airport property.

SUMMARY: The FAA proposes to rule and invite public comment on the release and sale of a 5,457 square foot parcel of land at the Colorado Air and Space Port.

DATES: Comments are due within 30 days of the date of the publication of this notice in the Federal Register.

ADDRESSES: Emailed comments can be provided to Mr. Michael Matz, Project Manager/Compliance Specialist, Denver Airports District Office, michael.b.matz@faa.gov, (303) 342-1251.

FOR FURTHER INFORMATION CONTACT: Mr. Jeff Kloska, Director, Colorado Air and Space Port, 5200 Front Range Parkway, Watkins, CO 80137, JKloska@adcogov.org, (720) 523-7310; or Michael Matz, Project Manager/Compliance Specialist, Denver Airports District Office, 26805 E. 68th Ave. Suite 224, Denver, CO 80249, michael.b.matz@faa.gov, (303) 342-1251. Documents reflecting this FAA action may be reviewed at the above locations.

SUPPLEMENTARY INFORMATION:

The FAA invites public comment on the request to release property at the Colorado Air and Space Port under the provisions of 49 U.S.C. 47107(h)(2). The proposal consists of 5,457 square feet of land located on the North side of the airport, shown as Parcel 7B on the Airport Layout Plan. The parcel lies on the Northeast corner of East 56th Avenue and Imboden Road. The FAA concurs that the parcel is no longer needed for airport purposes. The proposed use of this property is compatible with existing airport operations in accordance with FAA's Policy and Procedures Concerning the Use of Airport Revenue, as published in the Federal Register on February 16, 1999.

Issued in Denver, Colorado, on November 30, 2022.
Marc Miller,
Acting Manager, Denver Airports District Office.

[FR Doc. 2022-26469 Filed 12-5-22; 8:45 am]

BILLING CODE 4910-13-P